DEPARTMENT OF THE INTERIOR

National Park Service

Notice of Public Meetings for the National Park Service Alaska Region's Subsistence Resource Commission (SRC) Program

AGENCY: National Park Service, Interior.

ACTION: Notice of public meetings for the National Park Service Alaska Region's Subsistence Resource Commission (SRC) program.

SUMMARY: The Gates of the Arctic National Park Subsistence Resource Commission (GAAR SRC), Denali National Park Subsistence Resource Commission (DENA SRC), Lake Clark National Park Subsistence Resource Commission (LACL SRC) and Wrangell-St. Elias National Park Subsistence Resource Commission (WRST SRC) will meet to develop and continue work on National Park Service (NPS) subsistence hunting program recommendations and other related subsistence management issues. These meetings are open to the public and will have time allocated for public testimony. The public is welcomed to present written or oral comments to the SRC. Each meeting will be recorded and meeting minutes will be available upon request from the park superintendent for public inspection approximately six weeks after each meeting. The NPS SRC program is authorized under Title VIII, Section 808 of the Alaska National Interest Lands Conservation Act, Public Law 96-487, to operate in accordance with the provisions of the Federal Advisory Committee Act.

For Further Information on the GAAR SRC Meeting Contact: Dave Krupa, Subsistence Manager, Tel. (907) 455-0631, Address: Gates of the Arctic National Park and Preserve, 4175 Geist Road, Fairbanks, AK 99709 or Clarence Summers, Subsistence Manager, Tel. (907) 644-3603.

GAAR SRC Meeting Dates and Location: The GAAR SRC meeting will be held on Wednesday, August 26, and Thursday, August 27, 2009, from 9 a.m. to 5 p.m. at the Sophie Station Hotel in Fairbanks, AK.

For Further Information on the DENA SRC Meeting Contact: Amy Craver, Subsistence Manager, Tel. (907) 683-9544, Address: Denali National Park and Preserve, P.O. Box 9, Denali Park, AK 99755 or Clarence Summers, Subsistence Manager, Tel. (907) 644-3603.

DENA SRC Meeting Date and Location: The DENA SRC meeting will be held on Thursday, August 20, 2009, from 9 a.m. to 5 p.m. at the Lake Minchumina Community Hall in Lake Minchumina, AK.

For Further Information on the LACL SRC Meeting Contact: Michelle Ravenmoon, Subsistence Manager, Tel. (907) 781-2135 or Mary McBurney, Subsistence Manager, Tel. (907) 235-7891, Address: 240 W. 5th Avenue, Suite 236, Anchorage, AK 99501or Clarence Summers, Subsistence Manager, Tel. (907) 644-3603.

LACL SRC Meeting Date and Location: The LACL SRC meeting will be held on Thursday, August 27, 2009, from 1 p.m. to 5 p.m. at the Pedro Bay Village Council Building in Pedro Bay, AK.

For Further Information on the WRST SRC Meeting Contact: Barbara Cellarius, Subsistence Manager, Tel. (907) 822-7236, Address: P.O. Box 439, Copper Center, AK 99573 or Clarence Summers, Subsistence Manager, Tel. (907) 644-3603.

WRST SRC Meeting Date and Location: The WRST SRC meeting will be held on Tuesday, September 29, 2009, from 9 a.m. to 5 p.m. at the Wrangell-St. Elias National Park Service Office in Copper Center, AK.

The proposed meeting agenda for each meeting includes the following:

1. Call to order.

2. SRC Roll Call and Confirmation of Quorum.

3. SRC Chair and Superintendent's Welcome and Introductions.

4. Approval of Minutes from Last SRC Meeting.

5. Review and Approve Agenda.

6. Status of SRC Membership.

7. SRC Member Reports.

8. Park Subsistence Manager's Report.

9. National Park Service Staff Reports:

a. Resource Management Update.

b. Ranger Division Update.

c. Subsistence Uses of Horns, Antlers, Bones and Plants EA Update.

10. Federal Subsistence Board Update.

11. Alaska Board of Game Update.

12. Old Business.

13. New Business.

14. Public and other Agency Comments.

15. SRC Work/Training Session.

16. Set Time and Place for next SRC Meeting.

17. Adjournment.

SUPPLEMENTARY INFORMATION: SRC meeting locations and dates may need to be changed based on weather or local circumstances. If the meeting date and location are changed, a notice will be published in local newspapers and announced on local radio stations prior to the meeting date. The SRC meeting may end early if all business is completed.

Tim A. Hudson,
Acting Regional Director, Alaska.

[FR Doc. E9-17711 Filed 7-23-09; 8:45 am]

BILLING CODE 4312-HK-P